DEPARTMENT OF TRANSPORTATION

Federal Highway Administration

Environmental Impact Statement: Salt Lake and Davis Counties, UT

AGENCY: Federal Highway Administration (FHWA), DOT.

ACTION: Notice of Termination.

SUMMARY: The FHWA is issuing this notice to advise the public that the effort to prepare an Environmental Impact Statement (EIS) for transportation improvements in the I-15 North Corridor from downtown Salt Lake City to Kaysville will be terminated.

SUPPLEMENTARY INFORMATION: The project was initiated in 1997 and was a companion project to the Legacy Parkway EIS. Portions of the I-15 North Corridor and the Legacy Parkway project study areas overlapped and results of environmental studies performed for the I-15 North Corridor project were utilized in the Legacy Parkway EIS. Due to litigation on the Legacy Parkway project, the I-15 North Corridor Project was placed on hold. There were no federal funds used for the I-15 North Corridor EIS project. There are no immediate plans for substantial improvements in the I-15 North Corridor; therefore the EIS for the North Corridor Project will be terminated.

FOR FURTHER INFORMATION CONTACT: Mr. Edward Woolford, Environmental Program Manager, Federal Highway Administration, 2520 West 4700 South, Suite 9A, Salt Lake City, Utah 84047, Office Hours: 7 a.m. to 3:30 p.m. MST, Edward.Woolford@DOT.gov. Ms. Rebecka Stromness, Environmental Program Manager, Utah Department of Transportation, 4501 South 2700 West, Salt Lake City, Utah 84119, Office Hours 7 a.m. to 4:30 p.m. MST RStromness@Utah.gov.

SUPPLEMENTARY INFORMATION: The Notice of Intent for this project was originally published on January 22, 1997. The FHWA, in conjunction with the Utah Department of Transportation, has decided to discontinue efforts on this project.

Issued on: April 4, 2008.
Edward T. Woolford,
Environmental Program Manager, Salt Lake City, Utah.

[FR Doc. E8-7577 Filed 4-9-08; 8:45 am]

BILLING CODE 4910-22-P